DEPARTMENT OF TRANSPORTATION

Federal Aviation Administration

Final Meeting of the RTCA Future Flight Data Collection Committee

AGENCY: Federal Aviation Administration (FAA), DOT.

ACTION: Notice of RTCA Future Flight Data Collection Committee final meeting.

SUMMARY: The FAA is issuing this notice to advise the public of the final meeting of the RTCA Future Flight Data Collection Committee.

DATES: The meeting will be held October 15, 2001 starting at 1 pm.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for the Future Flight Data Collection Committee final meeting. The agenda will include:

• October 15:

• Opening Session (Welcome, Introductions, Administrative Remarks, Agenda Review, Review/Approve Summary of Previous Meeting)

• Review and Discuss Comments Submitted on the Final Report; Establish Final Changes based on Accepted Comments; Consider the Document for Approval to Forward to the RTCA Policy Board

• Closing Session (Other Business, Adjourn)

Attendance is open to the interested public but limited to space availability. With the approval of the chairmen, members of the public may present oral statements at the meeting. Persons wishing to present statements or obtain information should contact the person listed in the For Further Information Contact section. Members of the public may present a written statement to the committee at any time.

Issued in Washington, DC on September 24, 2001.
Janice L. Peters,
FAA Special Assistant, RTCA Advisory Committee.

[FR Doc. 01-24617 Filed 10-01-01; 8:45 am]

BILLING CODE 4910-13-M